DEPARTMENT OF STATE

[Public Notice 6437]

Announcement of a Meeting of the International Telecommunication Advisory Committee

SUMMARY: This notice announces a meeting of the International Telecommunication Advisory Committee (ITAC) to prepare for an April 19-30 meeting of International Telecommunication Union (ITU) Telecommunication Standardization Sector (ITU-T) Study Group 13 (Future networks including mobile and Next Generation Networks).

The ITAC will meet by conference call to prepare advice for the U.S. government for the meeting of ITU-T Study Group 13 (Future networks including mobile and Next Generation Networks) on March 26, 10 a.m.—noon Eastern Time. Access to the conference bridge may be obtained on request to the ITAC Secretariat, minardje@state.gov or at (202) 647-3234. This meeting is open to the public and the public will have an opportunity to provide comments at this meeting. Any requests for reasonable accommodation should be made at least seven days before the meeting. All such requests will be considered; however, requests made after that date might not be possible to fulfill. Those desiring further information on this meeting may contact the Secretariat at minardje@state.gov or at (202) 647-3234.

Dated: March 3, 2010.
James G. Ennis,
International Communications & Information Policy, U.S. Department of State.

[FR Doc. 2010-4981 Filed 3-8-10; 8:45 am]

BILLING CODE 4710-07-P